DEPARTMENT OF HOMELAND SECURITY

U.S. Citizenship and Immigration Services

[CIS No. 2682-21; DHS Docket No. USCIS-2021-0003]

RIN 1615-ZB86

Designation of Venezuela for Temporary Protected Status and Implementation of Employment Authorization for Venezuelans Covered by Deferred Enforced Departure; Correction

AGENCY: U.S. Citizenship and Immigration Services (USCIS), Department of Homeland Security.

ACTION: Notice; correction.

SUMMARY: U.S. Citizenship and Immigration Services (USCIS), a component of the Department of Homeland Security (DHS), is making corrections to the notice titled “Designation of Venezuela for Temporary Protected Status and Implementation of Employment Authorization for Venezuelans Covered by Deferred Enforced Departure” that published in the Federal Register on March 9, 2021. USCIS is correcting typographical errors in the Table 1—Mailing Addresses and Table 2—Mailing Addresses sections of the notice.

FOR FURTHER INFORMATION CONTACT:

• You may contact Maureen Dunn, Division Chief, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at uscis.gov/tps. You can find specific information about Venezuela's TPS designation by selecting “Venezuela” from the menu on the left side of the TPS web page.

• For further information on DED, including additional information on eligibility, please visit the USCIS DED web page at uscis.gov/humanitarian/temporary-protected-status/deferred-enforced-departure. You can find specific information about DED for Venezuela by selecting “DED Granted Country: Venezuela” from the menu on the left of the DED web page.

• If you have additional questions about DED or TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at uscis.gov/contactcenter.

• Further information will also be available at local USCIS offices upon publication of this notice.

SUPPLEMENTARY INFORMATION: On March 9, 2021, DHS published a notice in the Federal Register at 86 FR 13574. USCIS is making two corrections to that published notice. USCIS is correcting the zip code listed in Table 1—Mailing Addresses to read “60680” instead of “60690” and to provide additional information in the Attn: line. USCIS is also correcting the zip code listed in Table 2—Mailing Addresses at page 13579 to read “60680” instead of “60680-6943” and to provide additional information in the Attn: line. Although USCIS has not encountered mail delivery issues since the registration period started on March 9, 2021, USCIS is making the corrections with this Notice to formally update the March 9th publication.

Corrections

In FR Doc. 2021-04951, beginning on page 13574, in the Federal Register of March 9, 2021, make the following corrections:

1. On page 13578, Table 1 is corrected to read as follows:

Table 1—Mailing Addresses
If you live in: | Then, mail your application to:
Florida | For U.S. Postal Service (USPS): USCIS, Attn: TPS Venezuela, P.O. Box 20300, Phoenix, AZ 85036.
| For FedEx, UPS, and DHL deliveries: USCIS, Attn: TPS Venezuela (Box 20300), 1820 E Skyharbor Circle S, Suite 100, Phoenix, AZ 85034.
Any other state | For U.S. Postal Service (USPS):, USCIS, Attn: TPS Venezuela, P.O. Box 805282, Chicago, IL 60680.
| For FedEx, UPS, and DHL deliveries: USCIS, Attn: TPS Venezuela (Box 805282), 131 South Dearborn—3rd Floor, Chicago, IL, 60603-5517.

2. On page 13579, Table 2 is corrected to read as follows:

Table 2—Mailing Addresses
If you are: | Mail to:
Mailing your form through the U.S. Postal Service | USCIS, Attn: DED Venezuela, P.O. Box 805283, Chicago, IL 60680.
Using FedEx, UPS, or DHL | USCIS, Attn: DED Venezuela (Box 805283), 131 South Dearborn—3rd Floor, Chicago, IL 60603-5517.

Samantha Deshommes,
Chief, Regulatory Coordination Division, Office of Policy and Strategy, U.S. Citizenship and Immigration Services, U.S. Department of Homeland Security.

[FR Doc. 2021-06100 Filed 3-22-21; 8:45 am]

BILLING CODE 9111-97-P